RAILROAD RETIREMENT BOARD

Proposed Collection; Comment Request

Summary: In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Application for Employee Annuity Under the Railroad Retirement Ac; OMB 3220-0002.

Section 2a of the Railroad Retirement Act (RRA) provides for payments of age and service, disability, and supplemental annuities to qualified employees. An annuity cannot be paid until the employee stops working for a railroad employer. In addition, the age and service employee must relinquish any rights held to such jobs. A disabled employee does not need to relinquish employee rights until attaining Full Retirement Age, or if earlier, when their spouse is awarded a spouse annuity. Benefits become payable after the employee meets certain other requirements, which depend on the type of annuity payable. The requirements for obtaining the annuities are prescribed in 20 CFR 216 and 220.

To collect the information needed to help determine an applicant's entitlement to, and the amount of, an employee retirement annuity the RRB uses Forms AA-1, Application for Employee Annuity; AA-1d, Application for Determination of Employee Disability; G-204, Verification of Workers Compensation/Public Disability Benefit Information, and electronic Forms AA-1cert, Application Summary and Certification, and AA-1sum, Application Summary.

The AA-1 application process obtains information from an applicant about their marital history, work history, military service, benefits from other governmental agencies, railroad pensions and Medicare entitlement for either an age and service or disability annuity. An RRB representative interviews the applicant either at a field office, an itinerant point, or by telephone. During the interview, the RRB representative enters the information obtained into an on-line information system. Upon completion of the interview, the on-line information system generates Form AA-1cert, Application Summary and Certification, or Form AA-1sum, Application Summary, a summary of the information that was provided for the applicant to review and approve. Form AA-1cert documents approval using the traditional pen and ink “wet” signature, and Form AA-1sum documents approval using the alternative signature method called Attestation. When the RRB representative is unable to contact the applicant in person or by telephone, for example, the applicant lives in another country, a manual version of Form AA-1 is used.

Form AA-1d, Application for Determination of Employee's Disability, is completed by an employee who is filing for a disability annuity under the RRA, or a disability freeze under the Social Security Act, for early Medicare based on a disability. Form G-204, Verification of Worker's Compensation/Public Disability Benefit Information, is used to obtain and verify information concerning a worker's compensation or a public disability benefit that is or will be paid by a public agency to a disabled railroad employee.

The RRB recently received short-term approval of a Request for Emergency Clearance from the Office of Management and Budget for this information collection. In response to that request the RRB received comments from 3 railroad labor organizations commenting on the RRB's action. The comments centered on the collection of information associated with the following issues:

• The relinquishment of seniority rights;

• The reporting of volunteer and social/recreational activities as part of the adjudication of an application for disability;

• Whether an applicant had filed or expected to file a lawsuit or claim against a person or company for a personal injury that resulted in the payment of sickness benefits by the RRB; and

• The use of facilitators who assist disability applicants in the completion of their applications.

RRB staff thoroughly evaluated the comments received and responded to the railroad labor organizations. In response to those comments, the RRB proposes the following changes to Forms AA-1 and AA-1d:

• deletion of Item 35a-d from Form AA-1, regarding the relinquishment of seniority rights;

• the relocation of current Items 52-53 from Form AA-1d to proposed Items 48a-b on Form AA-1, regarding whether an applicant had filed or expected to file a lawsuit or claim against a person or company for a personal injury that resulted in the payment of sickness benefits by the RRB, as the potential for uncollected sickness benefits can apply to both a disability applicant as well as an applicant qualified for an age and service annuity.

Comparable revisions to electronic equivalent forms (AA-1cert and AA-1sum) are also being proposed. The RRB proposes no changes to Form G-204.

One response is requested of each respondent. Completion of the forms is required to obtain/retain a benefit.

Estimate of Annual Respondent Burden
Form No. | Annual responses | Time (minutes) | Burden (hours)
AA-1 (without assistance) | 100 | 62 | 103
AA-1cert (with assistance) | 4,620 | 30 | 2,310
AA-1sum (with assistance) | 8,000 | 29 | 3,867
AA-1d (with assistance) | 2,600 | 60 | 2,600
AA-1d (without assistance) | 5 | 85 | 7
G-204 | 20 | 15 | 5
Total | 15,345 |  | 8,892

Additional Information or Comments: To request more information or to obtain a copy of the information collection justification, forms, and/or supporting material, contact Dana Hickman at (312) 751-4981 or Dana.Hickman@RRB.GOV. Comments regarding the information collection should be addressed to Charles Mierzwa, Railroad Retirement Board, 844 North Rush Street, Chicago, Illinois 60611-2092 or emailed to Charles.Mierzwa@RRB.GOV. Written comments should be received within 60 days of this notice.

Charles Mierzwa,
Chief of Information Resources Management.

[FR Doc. 2016-17249 Filed 7-19-16; 8:45 am]

BILLING CODE 7905-01-P